DEPARTMENT OF TRANSPORTATION

Federal Aviation Administration

Approval of Noise Compatibility Program Phoenix Sky Harbor International Airport, Phoenix, Arizona

AGENCY: Federal Aviation Administration, DOT.

ACTION: Notice.

SUMMARY: The Federal Aviation Administration (FAA) announces its findings on the Noise Compatibility Program Submitted by the city of Phoenix, Phoenix, Arizona, under the provisions of Title I of the Aviation Safety and Noise Abatement Act of 1979 (Pub. L. 96-193) and Title 14, Code of Federal Regulations, part 150 (FAR part 150). These findings are made in recognition of the description of Federal and nonfederal responsibilities in Senate Report No. 96-52 (1980). On October 10, 2000, the FAA determined that the noise exposure maps submitted by the city of Phoenix under FAR Part 150 were in compliance with applicable requirements. On September 7, 2001, the Acting Associate Administrator for Airports approved the Phoenix Sky Harbor International Airport Noise Compatibility Program. All thirty-two program measures have been approved. Nine measures were approved as voluntary measures and twenty-three measures were approved outright.

EFFECTIVE DATES: The effective date of the FAA's approval of the Phoenix Sky Harbor International airport Noise Compatibility Program is September 7, 2001.

FOR FURTHER INFORMATION CONTACT: Brian Armstrong, Airport Planner, Airports Division, AWP-611.1, Federal Aviation Administration, Western-Pacific Region. Mailing address: P.O. Box 92007, Los Angeles, California 90009-2007. Telephone: (310) 725-3614. Street address: 15000 Aviation Boulevard, Hawthorne, California 90261. Documents reflecting this FAA action may be reviewed at this location.

SUPPLEMENTARY INFORMATION: This notice announces that the FAA has given its overall approval to the Noise Compatibility Program for the Phoenix Sky Harbor International Airport, effective September 7, 2001. Under section 104(a) of the Aviation Safety and Noise Abatement Act of 1979 (hereinafter referred to as “the Act”), an airport operator who has previously submitted a Noise Exposure Map, may submit to the FAA, a Noise Compatibility Program which sets forth the measures taken or proposed by the airport operator for the reduction of existing noncompatible land uses and prevention of additional noncompatible land uses within the area covered by the Noise Exposure Maps. The Act requires such programs to be developed in consultation with interested and affected parties including local communities, government agencies, airport users, and FAA personnel.

Each airport Noise Compatibility Program developed in accordance with FAR Part 150 is a local program, not a federal program. The FAA does not substitute its judgment for that of the airport proprietor with respect to which measures should be recommended for action. The FAA's approval or disapproval of FAR part 150 program recommendations is measured according to the standards expressed in FAR part 150 and is limited to the following determinations:

a. The Noise Compatibility Program was developed in accordance with the provisions and procedures of FAR part 150;

b. Program measures are reasonably consistent with achieving the goals of reducing existing noncompatible land uses around the airport and preventing the introduction of additional noncompatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport Noise Compatibility Program are delineated in FAR part 150, § 150.5. Approval is not a determination concerning the acceptability of land uses under Federal, State, or local law. Approval does not by itself constitute a FAA implementing action. A request for Federal action or approval to implement specific noise compatibility measures may be required, and a FAA decision on the request may require an environmental assessment of the proposed action. Approval does not constitute a commitment by the FAA to financially assist in the implementation of the program nor a determination that all measures covered by the program are eligible for grant-in-aid funding from the FAA. Where Federal funding is sought, requests for project grants must be submitted to the FAA Airports Division office in Hawthorne, California.

The city of Phoenix submitted the Noise Exposure Maps, descriptions, and other documentation produced during the noise compatibility planning study conducted from November 1998 through October 2000 to the FAA on October 2, 2001. The Phoenix Sky Harbor International Airport Noise Exposure maps were determined by FAA to be in compliance with applicable requirements on october 10, 2000. Notice of this determination was published in the Federal Register on October 25, 2000.

The Phoenix Sky Harbor International Airport study contains a proposed Noise Compatibility Program comprised of actions designed for implementation by airport management and adjacent jurisdictions. It was requested that the FAA evaluate and approve this material as a Noise Compatibility Program as described in section 104(b) of the Act. The FAA began its review of the program on March 12, 2001, and was required by a provision of the Act to approve or disapprove the program within 180 days (other than the use of new flight procedures for noise control). Failure to approve or disapprove such program within the 180-day period shall be deemed to be an approval of such program.

The submitted programs contained thirty-two proposed actions for noise mitigation on and off the airport. The FAA completed its review and determined that the procedural and substantive requirements of the Act and FAR Part 150 have been satisfied. The Acting Associate Administrator for Airports approved the overall program effective September 7, 2001.

All thirty-two program measures have been approved. The following nine measures were approved as voluntary measures: Continue the runway use program calling for the equalization of departure operations to the east and west for both daytime and nighttime; Continue promoting use of AC 91-53A Noise Abatement Departure Procedures by air carrier jets; Continue promoting use of NBAA Noise Abatement Procedures or equivalent manufacturer procedures, by general aviation jet aircraft; Continue DP (departure) procedure for Runway 26L (now 25R) requiring a turn to a 240-degree heading; Continue the 4-DME departure route procedure which overflies the Salt River by all jets and large propeller aircraft departing Runway 8L/R (now 8 and 7L); Implement the 4-DME departure route procedure for all jet and large propeller aircraft departing Runway 7 (now 7R); Direct propeller aircraft departing Runway 7 (now 7R) to turn to a 120-degree heading upon reaching the end of the runway; Direct aircraft departing Runway 25 (now 25L) to turn to a 240-degree heading upon reaching the end of the runway; and, Establish a side-step approach to Runway 25 (now 25L) for noise abatement.

The following twenty-three measures were approved outright: Continue requiring compliance with the Airport Engine Test Run-up Policy; Encourage the use of DGPS, RNAV, and FMS equipment to enhance noise abatement navigation; Build engine maintenance run-up enclosure; Support 161st Air Refueling Wing of the Arizona Air National Guard's efforts to re-engine KC-135 Aircraft; Sound insulate single family homes within the 1992 65 DNL contour and single family homes outside the 1992 65 DNL contour but inside the 1999 65 DNL Contour; Sound Insulate approximately ten schools within the 1999 65 DNL Contour; Acoustical Treatment of Community Center and place of worship classrooms/meeting rooms within the 1999 65 DNL Contour; Voluntary Acquisition and Redevelopment: Acquire dwellings north and west (to 7th street) of the airport within the 1999 [65 and] 70 DNL Contour; Exchange dwellings impacted within the 70 DNL noise contour with a dwelling outside the 65 DNL noise contour; Update General Plans to reflect the 1999 noise contour planning boundary from Part 150 Study as basis for noise compatibility planning; Amend General Plan designations to reflect existing compatible and existing lower density land uses within the Noise Contour Planning Boundary (NCPB); General Plan Amendment: Amend Mixed Use designations within the 1999 65 DNL contour to exclude residential; Enact guidelines specifying noise compatibility criteria for the review of development projects within the Noise Contour Planning Boundary (NCPB); Retain compatible land use zoning within the Noise Contour Planning Boundary (NCPB); Amend Zoning Map to reflect General Plan and existing compatibile land uses within the Noise Contour Planning Boundary (NCPB); Encourage rezoning several large tracts of land currently developed with low density residential but zoned for higher density non-compatible land uses within the 1999 65 DNL noise exposure contour; Enact overlay zoning to provide noise compatibility land use standards near Airport; Subdivision Regulation Amendment: Require recording of fair disclosure agreements and covenants and over flights within the Noise Contour Planning Boundary (NCPB); Building Code Amendment: Enact construction standards within the Noise Contour Planning Boundary (NCPB); Continue noise abatement information program; Monitor implementation of updated Noise Compatibility Program; Update Noise Exposure Maps and Noise Compatibility Program; and, Expand flight track monitoring coverage.

These determinations are set forth in-detail in a Record of Approval endorsed by the Acting Associate Administrator for Airports on September 7, 2001. The Record of Approval, as well as other evaluation materials and the documents comprising the submittal are available for review at the FAA office listed above and at the administrative offices of the city of Phoenix, Phoenix, Arizona.

Issued in Hawthorne, California on September 18, 2001.
Herman C. Bliss,
Manager, Airports Division, AWP-600, Western-Pacific Region.

[FR Doc. 01-24218 Filed 9-26-01; 8:45 am]

BILLING CODE 4910-13-M